COMMISSION ON CIVIL RIGHTS

Membership of the USCCR Performance Review Board

AGENCY: U.S. Commission on Civil Rights.

ACTION: Notice of membership of the USCCR Performance Review Board.

SUMMARY: This notice announces the appointment of the Performance Review Board (PRB) of the United States Commission on Civil Rights. Publication of PRB membership is required by 5 U.S.C. 4314(c)(4).

The PRB provides fair and impartial review to the U.S. Commission on Civil Rights' Senior Executive Service performance appraisals and makes recommendations regarding performance ratings and performance awards to the Staff Director, U.S. Commission on Civil Rights for the FY 2009 rating year.

FOR FURTHER INFORMATION CONTACT: Myrna Hernandez, Human Resources Specialist, U.S. Commission on Civil Rights, 624 9th Street, NW., Washington, DC 20425, (202) 376-8364.

USCCR Performance Review Board Members

Mary Johnson, Esq., General Counsel, National Mediation Board.

William D. Spencer, Clerk of the Board, Merit Systems Protection Board.

David M. Capozzi, Executive Director, U.S. Access Board.

TinaLouise Martin, Director, Office of Management, U.S. Commission on Civil Rights.

Dated: December 17, 2009.
David P. Blackwood,
General Counsel.

[FR Doc. E9-30447 Filed 12-22-09; 8:45 am]

BILLING CODE 6335-01-P